FEDERAL COMMUNICATIONS COMMISSION

47 CFR Part 54

[WC Docket Nos. 17-287, 11-42, and 09-197; Report No. 3087]

Petitions for Reconsideration of Action in Rulemaking Proceeding

AGENCY: Federal Communications Commission.

ACTION: Petitions for Reconsideration; correction.

SUMMARY: The Federal Communications Commission (Commission) published a document in the Federal Register of March 2, 2018 (83 FR 8962), regarding Petitions for Reconsideration filed in the Commission's rulemaking proceeding. The document contained the incorrect deadline for filing replies to an opposition to the Petitions. This document corrects the deadline for replies to an opposition to the Petitions.

DATES: Oppositions to the Petitions must be filed on or before March 19, 2018. Replies to an opposition must be filed on or before March 29, 2018.

ADDRESSES: Federal Communications Commission, 445 12th Street SW, Washington, DC 20554.

FOR FURTHER INFORMATION CONTACT: Jessica Campbell, phone: 202-418-3609, jessica.campbell@fcc.gov.

SUPPLEMENTARY INFORMATION:

Correction

In the Federal Register of March 2, 2018, in FR Doc. 2018-04359, on page 8962, in the third column, correct the DATES section to read:

DATES: Oppositions to the Petitions must be filed on or before March 19, 2018. Replies to an opposition must be filed on or before March 29, 2018.

Federal Communications Commission.
Marlene H. Dortch,
Secretary, Office of the Secretary.

[FR Doc. 2018-05202 Filed 3-14-18; 8:45 am]

BILLING CODE 6712-01-P